DEPARTMENT OF TRANSPORTATION

Federal Aviation Administration

14 CFR Part 39

[Docket No. FAA-2013-0315; Directorate Identifier 2013-CE-006-AD]

RIN 2120-AA64

Airworthiness Directives; GROB-WERKE Airplanes

AGENCY: Federal Aviation Administration (FAA), DOT.

ACTION: Proposed rule; withdrawal.

SUMMARY: This document withdraws a notice of proposed rulemaking (NPRM) that would have applied to GROB-WERKE GMBH & CO KG Model G 115E airplanes. The proposed airworthiness directive (AD) would have required a one-time inspection to verify correct cable routing behind the LH cockpit instrument panel and, depending on findings, correction and replacement of damaged parts. Since issuance of the NPRM, the FAA has re-evaluated this airworthiness concern and determined that the airplanes affected are not type certificated in the United States. This withdrawal does not prevent the FAA from initiating future rulemaking on this subject.

DATES: As of September 6, 2013, the proposed rule published April 9, 2013 (78 FR 21082), is withdrawn.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION:

Discussion

We issued a notice of proposed rulemaking (NPRM) to amend 14 CFR part 39 to include an AD that would apply to the specified products. The NPRM published in the Federal Register on April 9, 2013 (78 FR 21082). The NPRM proposed to require you to do a one-time inspection to verify correct cable routing behind the LH cockpit instrument panel and, depending on findings, correction and replacement of damaged parts.

Because of the comments received on the NPRM (78 FR 21082, April 9, 2013) that pointed out the Model G 115E airplane is not type certificated in the United States, the FAA re-evaluated the airworthiness concern and determined that the airplanes affected are not certificated in the United States and concluded that:

• An unsafe condition warranting AD action does not exist; and

• the associated level of risk does not warrant AD action.

Withdrawal of this NPRM (78 FR 21082, April 9, 2013) constitutes only such action and does not preclude the agency from issuing future rulemaking on this issue, nor does it commit the agency to any course of action in the future.

Regulatory Findings

Since this action only withdraws an NPRM, it is neither a proposed nor a final rule and therefore, is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking (NPRM), FAA-2013-0315, published in the Federal Register on April 9, 2013 (78 FR 21082), is withdrawn.

Issued in Kansas City, Missouri, on August 13, 2013.
Earl Lawrence,
Manager, Small Airplane Directorate, Aircraft Certification Service.

[FR Doc. 2013-20095 Filed 9-5-13; 8:45 am]

BILLING CODE 4910-13-P